DEPARTMENT OF HEALTH AND HUMAN SERVICES

National Institutes of Health

Center for Scientific Review; Amended Notice of Meeting

Notice is hereby given of a change in the meeting of the Synthetic and Biological Chemistry B Study Section, June 8, 2006, 8:30 a.m. to June 9, 2006, 6 p.m., Holiday Inn Select Bethesda, 8120 Wisconsin Ave, Bethesda, MD, 20814 which was published in the Federal Register on April 25, 2006, 71 FR 23929-23931.

The meeting will be held at the Double Tree Hotel, 8120 Wisconsin Avenue Bethesda, MD 20814. The meeting dates and time remain the same. The meeting is closed to the public.

Dated: May 5, 2006.
Anna Snouffer,
Acting Director, Office of Federal Advisory Committee Policy.

[FR Doc. 06-4459 Filed 5-11-06; 8:45am]

BILLING CODE 4140-01-M